POSTAL SERVICE

39 CFR Part 20

Customer Deposit of International Mailpieces

AGENCY: Postal Service™.

ACTION: Final rule.

SUMMARY: The Postal Service is revising the Mailing Standards of the United States Postal Service, International Mail Manual (IMM®) to require all mailpieces weighing more than 13 ounces and bearing only postage stamps be presented to an employee at a retail service counter in a Post Office™.

DATES: Effective Date: January 4, 2010.

FOR FURTHER INFORMATION CONTACT: Rick Klutts at 813-877-0372 or Evans King at 202-268-4982.

SUPPLEMENTARY INFORMATION:

These changes require that all international outbound mailpieces weighing more than 13 ounces bearing only postage stamps be presented to an employee at a retail service counter in a Post Office™.

The Postal Service hereby adopts the following changes to Mailing Standards of the United States Postal Service, International Mail Manual (IMM), which is incorporated by reference in the Code of Federal Regulations. See 39 CFR 20.1.

List of Subjects in 39 CFR Part 20

Foreign relations, International postal services.

Accordingly, 39 CFR Part 20 continues to read as follows:

PART 20—[AMENDED]

1. The authority citation for 39 CFR Part 20 is revised to read as follows:

Authority: 5 U.S.C. 552(a); 39 U.S.C. 101, 401, 403, 404, 407, 408, 3622, 3632, and 3633.

2. Revise the following sections of Mailing Standards of the United States Postal Service, International Mail Manual (IMM), as follows:

Mailing Standards of the United States Postal Service, International Mail Manual (IMM)

1 International Mail Services

* * * * *

120 Preparation for Mailing

* * * * *

123 Customs Forms and Online Shipping Labels

* * * * *

123.5 Place of Mailing

[Revise 123.5 as follows:]

Mailpieces bearing customs declarations have specific deposit requirements based on mail category, shape and weight; see IMM part below for determination:

Global Express Guaranteed mailpieces—see 215

Express Mail International mailpieces—see 225

Priority Mail International mailpieces—see 235

First-Class Mail International mailpieces—see 245

* * * * *

123.7 Completing Customs Forms

123.71 PS Form 2976, Customs Declaration CN 22—Sender's Declaration (green label)

* * * * *

123.712 Postal Service Employee's Acceptance of PS Form 2976

* * * * *

[Delete the Note at end of 123.712]

* * * * *

2 Conditions for Mailing

210 Global Express Guaranteed

* * * * *

215 Mail Entry and Deposit

* * * * *

[Revise 215.2 as follows:]

215.2 Place of Mailing

215.21 Payment Methods Other Than Postage Stamps

Global Express Guaranteed shipments paid with online postage, postage meters or information-based indicia (IBI) may be deposited by one of the following methods:

a. At a retail counter of any participating Global Express Guaranteed Post Office facility.

b. Through Pickup on Demand Service (see 215.3).

c. Through Carrier Pickup (see 215.4).

d. In a collection box served by a participating Global Express Guaranteed Post Office facility.

215.22 Items Weighing 13 Ounces or Less—Paid With Postage Stamps

Global Express Guaranteed shipments weighing 13 ounces or less bearing only postage stamps may be deposited by one of the following methods:

a. At a retail counter of any participating Global Express Guaranteed Post Office facility.

b. Through Pickup on Demand Service (see 215.3).

c. Through Carrier Pickup (see 215.4).

d. In a collection box served by a participating Global Express Guaranteed Post Office facility.

215.23 Items Weighing More Than 13 Ounces—Paid With Postage Stamps

A customer maynot deposit a Global Express Guaranteed item weighing more than 13 ounces and bearing only postage stamps into a collection box, Postal Service lobby drop, Automated Postal Center (APC) drop, Postal Service dock, customer mailbox, or other unattended location. In addition, these mailpieces are precluded from Pickup on Demand service under 215.3 and Carrier Pickup in 215.4. Customers must present such items to an employee at a Post Office retail service counter. The Postal Service will return improperly presented items to the sender for proper entry and acceptance.

215.24 Acceptance of Shipments

For purposes of computing the delivery guarantee, Postal Service acceptance of a Global Express Guaranteed shipment occurs when it is received and scanned at a participating Global Express Guaranteed Post Office facility. Collection box deposit and Carrier Pickup do not constitute Postal Service acceptance of a Global Express Guaranteed shipment. Acceptance occurs when the shipment is brought back to the Post Office facility and the acceptance office performs a retail system scan and verifies the weight, dimensions and postage of the shipment. For items paid with Click-N-Ship the customer will receive an e-mail verification of the acceptance date, time, and weight, as well as a verification of the amount of postage applicable for the shipment.

Note: Customers paying postage online must enter their shipment via any of the authorized methods outlined in 215.21 within 24 hours of the time when the label is printed or the transaction will be void.

* * * * *

220 Express Mail International

* * * * *

225 Mail Entry and Deposit

[Revise 225.1 as follows:]

225.1 Place of Mailing

225.11 Items Requiring a Completed Customs Declaration

Except as provided in 225.12, a mailer may not deposit an Express Mail International item that requires a completed customs form into a collection box, Postal Service lobby drop, Automated Postal Center (APC) drop, Postal Service dock, customer mailbox, or other unattended location. In addition, these mailpieces are precluded from Pickup on Demand service under 225.2 and Carrier Pickup in 225.3. Customers must present such items to an employee at a at a Post Office retail service counter. The Postal Service will return improperly presented items to the sender for proper entry and acceptance.

225.12 Exceptional Items Requiring a Completed Customs Declaration

Express Mail International items paid through an Express Mail Corporate Account (EMCA), or items that have the mailing label, customs form (including an electronic round stamp), and postage prepared and paid online through Click-N-Ship service on usps.com, the eBay integrated shipping solution, or an authorized PC Postage vendor Web site may be deposited by one of the following methods:

a. At a Postal Service retail counter.

b. Through Pickup on Demand service (see 225.2).

c. Through Carrier Pickup (see 225.3).

d. Into a Postal Service lobby drop.

e. Into an Automated Postal Center (APC) drop.

f. In a collection box.

g. In a customer mailbox.

225.13 Items Not Requiring a Customs Declaration

225.131 Items Weighing 13 Ounces or Less—Paid With Postage Stamps

An Express Mail International item bearing only postage stamps, weighing 13 ounces or less and not requiring a customs declaration (see Individual Country Listing) may be deposited by one of the following methods:

a. At a Postal Service retail counter.

b. Through Pickup on Demand service (see 225.2).

c. Through Carrier Pickup (see 225.3).

d. Into a Postal Service lobby drop.

e. Into an Automated Postal Center (APC) drop.

f. In a collection box.

g. In a customer mailbox.

225.132 Items Weighing More Than 13 Ounces—Paid With Postage Stamps

A customer may not deposit an Express Mail International item weighing more than 13 ounces bearing only postage stamps and not requiring a customs declaration (see Individual Country Listing) into a collection box, Postal Service lobby drop, Automated Postal Center (APC) drop, Postal Service dock, customer mailbox, or other unattended location. In addition, these mailpieces are precluded from Pickup on Demand service under 225.2 and Carrier Pickup in 225.3. Customers must present such items to an employee at a at a Post Office retail service counter. The Postal Service will return improperly presented items to the sender for proper entry and acceptance.

225.133 Payment Methods Other Than Postage Stamps

An Express Mail International item paid with online postage, postage meters or information-based indicia (IBI) and not requiring a customs declaration (See Individual Country Listing) may be deposited by one of the following methods:

a. At a Postal Service retail counter.

b. Through Pickup on Demand service (see 225.2).

c. Through Carrier Pickup (see 225.3).

d. Into a Postal Service lobby drop.

e. Into an Automated Postal Center (APC) drop.

f. In a collection box.

g. In a customer mailbox.

* * * * *

230 Priority Mail International

* * * * *

235 Mail Entry and Deposit

[Revise 235.1 as follows:]

235.1 Place of Mailing

235.11 Items Requiring a Completed Customs Declaration

Except as provided in 235.12, a mailer may not deposit a Priority Mail International item that requires a completed customs form into a collection box, Postal Service lobby drop, Automated Postal Center (APC) drop, Postal Service dock, customer mailbox, or other unattended location. In addition, these mailpieces are precluded from Pickup on Demand service under 235.2 and Carrier Pickup in 235.3. Customers must present such items to an employee at a at a Post Office retail service counter. The Postal Service will return improperly presented items to the sender for proper entry and acceptance.

235.12 Items Bearing a Completed Customs Declaration With an Electronic Round Date

Priority Mail International items that have the mailing label, customs form (including an electronic round stamp), and postage prepared and paid online through Click-N-Ship service on usps.com, the eBay integrated shipping solution, or an authorized PC Postage vendor Web site may be deposited by one of the following methods:

a. At a Postal Service retail counter.

b. Through Pickup on Demand service (see 235.2).

c. Through Carrier Pickup (see 235.3).

d. Into a Postal Service lobby drop.

e. Into an Automated Postal Center (APC) drop.

f. In a collection box.

g. In a customer mailbox.

235.13 Flat-Rate Envelopes Not Requiring a Customs Declaration

The Priority Mail International flat-rate envelope meeting the conditions in 123.6 is the only Priority Mail International item that can be mailed without a customs labels. See 235.131 through 235.133 for specific conditions.

235.131 Flat-Rate Envelopes Weighing 13 Ounces or Less—Paid With Postage Stamps

A Priority Mail International flat-rate envelope bearing only postage stamps, weighing 13 ounces or less and not requiring a customs declaration (see 123.6) may be deposited by one of the following methods:

a. At a Postal Service retail counter.

b. Through Pickup on Demand service (see 235.2).

c. Through Carrier Pickup (see 235.3).

d. Into a Postal Service lobby drop.

e. Into an Automated Postal Center (APC) drop.

f. In a collection box.

g. In a customer mailbox.

235.132 Flat-Rate Envelopes Weighing More Than 13 Ounces—Paid With Postage Stamps

A customer may not deposit a Priority Mail International flat-rate envelope weighing more than 13 ounces bearing only postage stamps and not requiring a customs declaration (see 123.6) into a collection box, Postal Service lobby drop, Automated Postal Center (APC) drop, Postal Service dock, customer mailbox, or other unattended location. In addition, these mailpieces are precluded from Pickup on Demand service under 235.2 and Carrier Pickup in 235.3. Customers must present such items to an employee at a at a Post Office retail service counter. The Postal Service will return improperly presented items to the sender for proper entry and acceptance.

235.133 Priority Mail Flat-Rate Envelopes—Payment Methods Other Than Postage Stamps

A Priority Mail flat-rate envelope paid with online postage, postage meters or information-based indicia (IBI) weighing under 16 ounces and not requiring a customs declaration (see 123.6) may be deposited by one of the following methods:

a. At a Postal Service retail counter.

b. Through Pickup on Demand service (see 235.2).

c. Through carrier pickup (see 235.3).

d. Into a Postal Service lobby drop.

e. Into an Automated Postal Center (APC) drop.

f. In a collection box.

g. In a customer mailbox.

* * * * *

240 First-Class Mail International

* * * * *

245 Mail Entry and Deposit

[Revise 245.1 as follows:]

245.1 Place of Mailing

245.11 Items Requiring a Completed Customs Declaration

Except as provided in 245.12, a mailer may not deposit a First-Class Mail International item that requires a completed customs declaration form into a collection box, Postal Service lobby drop, Automated Postal Center (APC) drop, Postal Service dock, customer mailbox, or other unattended location. Customers must present such items to an employee at a at a Post Office retail service counter. The Postal Service will return improperly presented items to the sender for proper entry and acceptance.

245.12 Items Bearing a Completed Customs Declaration With an Electronic Round Date

First-Class Mail International items that have the mailing label, customs form (including an electronic round stamp), and postage prepared and paid online through the eBay integrated shipping solution, or an authorized PC Postage vendor Web site may be deposited by one of the following methods:

a. At a Postal Service retail counter.

b. Into a Postal Service lobby drop.

c. Into an Automated Postal Center (APC) drop.

d. In a collection box.

e. In a customer mailbox.

245.13 Items Not Requiring a Customs Declaration

245.131 Items Weighing 13 Ounces or Less—Paid With Postage Stamps

A First-Class Mail International letter-size or flat-size item bearing only postage stamps, weighing 13 ounces or less and not requiring a customs declaration (see 123.6) may be deposited by one of the following methods:

a. At a Postal Service retail counter.

b. Into a Postal Service lobby drop.

c. Into an Automated Postal Center (APC) drop.

d. In a collection box.

e. In a customer mailbox.

245.132 Items Weighing More Than 13 Ounces—Paid With Postage Stamps

A customer may not deposit a First-Class Mail International letter-size or flat-size items weighing more than 13 ounces bearing only postage stamps and not requiring a customs declaration (see 123.6) into a collection box, Postal Service lobby drop, Automated Postal Center (APC) drop, Postal Service dock, customer mailbox, or other unattended location. Customers must present such items to an employee at a at a Post Office retail service counter. The Postal Service will return improperly presented items to the sender for proper entry and acceptance.

245.14 Payment Methods Other Than Postage Stamps

First-Class Mail International letter-size or flat-size items paid with online postage, postage meters or information-based indicia (IBI) weighing under 16 ounces and not requiring a customs declaration (see 123.6) may be deposited by one of the following methods:

a. At a Postal Service retail counter.

b. Into a Postal Service lobby drop

c. Into an Automated Postal Center (APC) drop.

d. In a collection box.

e. In a customer mailbox.

* * * * *

Neva R. Watson,
Attorney, Legislative.

[FR Doc. E9-24331 Filed 10-8-09; 8:45 am]

BILLING CODE 7710-12-P